ENVIRONMENTAL PROTECTION AGENCY

[FRL OP-OFA-139]

Environmental Impact Statements; Notice of Availability

Responsible Agency: Office of Federal Activities, General Information 202-564-5632 or https://www.epa.gov/nepa.

Weekly receipt of Environmental Impact Statements (EIS)

Filed August 5, 2024 10 a.m. EST Through August 12, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240147, Final, USFS, NE, Nebraska National Forests and Grasslands Undesirable Plant Management, Review Period Ends: 09/23/2024, Contact: Melissa Martin 307-399-7346.

EIS No. 20240148, Draft, APHIS, PRO, Outbreak Response Activities for Highly Pathogenic Avian Influenza Outbreaks in Poultry in the United States and U.S. Territories, Comment Period Ends: 09/30/2024, Contact: Chelsea Bare 515-337-6128.

Amended Notice:

EIS No. 20170151, Draft, USFS, MN, WITHDRAWN—School Trust Land Exchange, Contact: Peter Taylor 218-626-4368.

Revision to FR Notice Published 08/11/2017; Officially Withdrawn per request of the submitting agency.

EIS No. 20240114, Draft, USACE, MS, Yazoo Backwater Area Water Management Project, Comment Period Ends: 08/27/2024, Contact: Mike Renacker 601-631-5842. Revision to FR Notice Published 06/28/2024; Extending the Comment Period from 08/12/2024 to 08/27/2024.

Dated: August 13, 2024.
Timothy Witman,
Acting Director, NEPA Compliance Division, Office of Federal Activities.

[FR Doc. 2024-18403 Filed 8-15-24; 8:45 am]

BILLING CODE 6560-50-P